Title 3—

The President

Proclamation 10978 of October 7, 2025

Fire Prevention Week, 2025

By the President of the United States of America

A Proclamation

During Fire Prevention Week, we call on every household and community to prioritize fire prevention by taking steps that reduce risks and strengthen safety. Americans honor the steadfast courage and dedication of firefighters and first responders across our Nation who protect our lives, property, and natural resources from the devastation of fire. Together, we also renew our commitment to promoting commonsense awareness and preparedness measures to prevent fires—and to keeping the American people safe and secure in the face of disaster.

In recent years, our Nation has seen the staggering costs of poor fire prevention and disaster preparedness. When wildfires erupted in California earlier this year, sparked by arson and exacerbated by the Green New Scam agenda and disastrous forest management, State and local leaders were left totally unprepared to safeguard our fellow citizens. Hydrants ran dry. Reservoirs were left empty. Due to this incompetent leadership, at least 30 people died, while survivors saw their homes and belongings descend in flames, costing hundreds of billions of dollars in damages.

To reverse this and similar derelictions, this past June I proudly signed an Executive Order returning common sense to wildfire prevention and response. Among other key actions, the order directs the Secretary of the Interior and the Secretary of Agriculture to consolidate their wildland fire programs, encourages local wildfire preparedness and response, and orders the use of new technology—including artificial intelligence and data sharing—to enhance State and local wildfire identification and response. I also established a Task Force to assess the Federal Emergency Management Agency's ability to address disasters. I also signed an Executive Order to expedite response and recovery efforts for the people of California, including the largest wildfire hazardous waste cleanup in the history of the Environmental Protection Agency.

This week, we offer our sincere thanks to all the dedicated firefighters and first responders who do not flinch in times of crisis. Without regard for their own safety, they plunge into roaring flames to bring hope to the desperate and comfort to the afflicted. That is why, earlier this year, I was proud to sign a bill into law for permanent pay increases for Federal wildland firefighters. Their courage and service, along with our local first responders, help protect our Nation's bountiful resources and keep our communities strong in times of hardship. We also express our deep appreciation for critical infrastructure personnel and disaster volunteers for their selfless service to their fellow citizens when fires do break out.

As my Administration works to prevent wildfires, we encourage every family to take measures to avert the risks and damages caused by household fire—including by having a fire escape plan, testing smoke and carbon monoxide alarms on a monthly basis, and identifying potential hazards like unattended cooking, faulty wiring, or overheated appliances.

This week, we pledge to provide all resources necessary to keep our communities safe when fire blazes—and we express our unending thanks to every heroic first responder who embodies the strength and determination of the American spirit.

NOW, THEREFORE, I, DONALD J. TRUMP, President of the United States of America, by virtue of the authority vested in me by the Constitution and the laws of the United States, do hereby proclaim October 5 through October 11, 2025, as Fire Prevention Week. I call on all Americans to participate in this observance with appropriate programs and activities and by renewing their efforts to prevent fires and their tragic consequences.

IN WITNESS WHEREOF, I have hereunto set my hand this seventh day of October, in the year of our Lord two thousand twenty-five, and of the Independence of the United States of America the two hundred and fiftieth.

[FR Doc. 2025-19534

Filed 10-8-25; 11:15 am]

Billing code 3395-F4-P